DEPARTMENT OF COMMERCE

National Oceanic and Atmospheric Administration

[RTID 0648-XE429]

Takes of Marine Mammals Incidental to Specified Activities; Taking Marine Mammals Incidental to Pile Driving Training Exercises at Naval Base Ventura County, Port Hueneme; Correction

AGENCY: National Marine Fisheries Service (NMFS), National Oceanic and Atmospheric Administration (NOAA), Commerce.

ACTION: Notice; proposed issuance of an incidental harassment authorization; request for comments on proposed authorization and possible renewal; correction.

SUMMARY: This notice contains corrections to a notice of the proposed issuance an incidental harassment authorization (IHA) to the United States Navy (Navy). The document being corrected is Takes of Marine Mammals Incidental to Specified Activities; Taking Marine Mammals Incidental to Pile Driving Training Exercises at Naval Base Ventura County, Port Hueneme, which was published on October 23, 2024.

DATES: Comments and information must be received no later than November 22, 2024.

FOR FURTHER INFORMATION CONTACT: Reny Tyson Moore, Office of Protected Resources, NMFS, (301) 427-8401. Electronic copies of the application and supporting documents, as well as the Federal Register notices and IHAs, may be obtained online at: https://www.fisheries.noaa.gov/national/marine-mammal-protection/incidental-take-authorizations-construction-activities. In case of problems accessing these documents, please call the contact listed above.

SUPPLEMENTARY INFORMATION:

Background

NMFS published a notice in the Federal Register on October 23, 2024 (89 FR 84534) announcing the proposed issuance of an IHA to the Navy concerning the authorization of take of marine mammals incidental to pile driving training exercises at Naval Base Ventura County, Port Hueneme. The proposed IHA, which would authorize the Navy to incidentally take California sea lions (Zalophus californius) and harbor seals (Phoca vitulina richardii), by Level B harassment only, during the described activities and specified timeframe, prescribe the methods of taking and other means of effecting the least practicable adverse impact on marine mammal species or stocks and their habitat, as well as propose requirements pertaining to the monitoring and reporting of such taking. NMFS refers the reader to the October 23, 2024, (89 FR 84534) Federal Register notice for background information concerning the proposed issuance of the IHA. The information in the notice of proposed issuance is not repeated here.

Correction

The error to be corrected appears in the DATES section. The text incorrectly states that Comments and information must be received no later than November 7, 2024, which suggests the comment period for this proposed IHA is 15 days. However, proposed IHAs require a 30-day public comment period. Therefore, the correct public comment period should be 30 days, and should end on November 22, 2024.

Dated: October 25, 2024.
Kimberly Damon-Randall,
Director, Office of Protected Resources, National Marine Fisheries Service.

[FR Doc. 2024-25226 Filed 10-29-24; 8:45 am]

BILLING CODE 3510-22-P